DEPARTMENT OF COMMERCE

National Oceanic and Atmospheric Administration

RIN 0648-XD597

New England Fishery Management Council (NEFMC); Public Meeting

AGENCY: National Marine Fisheries Service (NMFS), National Oceanic and Atmospheric Administration (NOAA), Commerce.

ACTION: Notice of a public meeting.

SUMMARY: The New England Fishery Management Council (Council) will hold a 4-day meeting to consider actions affecting New England fisheries in the exclusive economic zone (EEZ).

DATES: The meeting will be held Monday through Thursday, November 17-20, 2014. The Monday session will begin at 1 p.m., while the next three days will start at 8:30 a.m.

ADDRESSES: The meeting will be held at the Marriott Hotel, 25 America's Cup Avenue, Newport, RI 02840; telephone: (401) 849-1000 and fax: (401) 849-3422. For online information about the venue www.marriott.com/hotels/hotel-information/travel/pvdlw-newport-marriott/.

Council address: New England Fishery Management Council, 50 Water Street, Mill 2, Newburyport, MA 01950; telephone: (978) 465-0492.

FOR FURTHER INFORMATION CONTACT: Thomas A. Nies, Executive Director, New England Fishery Management Counci; telephone: (978) 465-0492.

SUPPLEMENTARY INFORMATION:

Monday, November 17, 2014

The Council meeting will begin with introductions, and brief reports from the NEFMC Chairman and Executive Director, the NOAA Fisheries Regional Administrator, Northeast Fisheries Science Center and Mid-Atlantic Fishery Management Council liaisons, NOAA General Counsel and NOAA Law Enforcement, and representatives of the Atlantic States Marine Fisheries Commission and U.S. Coast Guard. Immediately after these reports, the Council will provide an opportunity for the public to present brief comments on items that are relevant to Council business but are otherwise not listed on the published agenda. The Monkfish Committee will update members on the development of alternatives for inclusion in Amendment 6 to the Monkfish Fishery Management Plan (FMP) and possibly the necessity of initiating a framework adjustment to expedite the implementation of several measures previously included in Amendment 6. The Council staff will present the annual monitoring report on the Northeast Skate Complex FMP and the day will end with a report from the Small Mesh Multispecies (Whiting) Committee. The committee will recommend approval of the 2015-17 specifications for the small-mesh multispecies (whiting) fishery. Although the formal Council meeting will adjourn, staff from the Greater Atlantic Regional Fisheries Office will present an overview and discuss the office's Strategic Plan at 5:45 p.m. or immediately following the conclusion of the Council's meeting.

Tuesday, November 18, 2014

The day will begin with an overview and summary of public comments on a NOAA/NMFS-led action that will affect all federally managed fisheries in the Northeast. The Council then intends to take final action on what is called the Vessel Baseline Omnibus Amendment. During this same morning session, the Council also expects to approve alternatives to be considered for inclusion in Amendment 18 to the Northeast Multispecies or Groundfish FMP. The discussion will focus on accumulation limits and an inshore/offshore line to address the concentration of fishing effort in the inshore Gulf of Maine. Next, the Scientific and Statistical Committee will report on its recommendations for overfishing limits and acceptable biological catch recommendations for Gulf of Maine cod, pollock, Gulf of Maine winter flounder, and Georges Bank winter flounder. Following a lunch break, the rest of the day will be spent reviewing and taking final action on Framework Adjustment 53 to the Groundfish FMP. The framework addresses three major topics: (1) Status changes (Gulf of Maine (GOM) haddock) and specifications for several groundfish stocks (Gulf of Maine cod and haddock; Gulf of Maine and Georges Bank winter flounder; pollock; and Georges Bank yellowtail flounder); (2) windowpane flounder sub-annual catch limit (ACLs) for sectors, common pool; and the sea scallop fishery; and (3) other management measures, including additional spatial protection for spawning Gulf of Maine cod, and possibly additional measures for that stock, a roll-over provision for fishery specifications, and annual catch entitlement carryover provisions for sectors.

Wednesday, November 19, 2014

The Council intends to use this day to complete its work on Framework Adjustment 53.

Thursday, November 20, 2014

The final day of the Council's meeting will begin with a report from its Sea Scallop Committee. Based on the committee's recommendations, the Council expects to take final action on Framework Adjustment 26 to the Atlantic Sea Scallop FMP. The action includes fishery specifications for 2015 and default measures for 2016, including days-at-sea allocations, access area allocations and limited access general category fishery allocations. A number of other issues are under consideration for inclusion in the action. Prior to a lunch break, the NEFMC will begin a final round of discussions and approve its management priorities for 2015. The Risk Policy Working Group will ask for approval of a draft policy statement and briefly discuss steps to apply the policy across all NEFMC fishery management plans. Finally, the Observer Committee will provide an update on the development of an Omnibus Industry-Funded Monitoring Amendment request approval of alternatives for inclusion in the action. The meeting will adjourn once any other outstanding business has been addressed.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: October 28, 2014.
Tracey L. Thompson,
Acting Deputy Director, Office of Sustainable Fisheries, National Marine Fisheries Service.

[FR Doc. 2014-25927 Filed 10-30-14; 8:45 am]

BILLING CODE 3510-22-P